DEPARTMENT OF HOMELAND SECURITY

Federal Emergency Management Agency

Assistance to Firefighters Grant Program

AGENCY: U.S. Fire Administration (USFA), FEMA, Emergency Preparedness and Response, Homeland Security.

ACTION: Notice of funds availability.

SUMMARY: We, USFA, are publishing this Notice to announce the availability of grant funding for the Assistance to Firefighters Grant Program (AFGP) for fiscal year 2003 and to provide the details and guidance regarding the 2003 program year.

The program is intended to make grants directly to fire departments of a State for the purpose of enhancing the departments' ability to protect the health and safety of the public as well as that of firefighting personnel facing fire and fire-related hazards. A portion of this year's grants will be awarded on a competitive basis to the applicants that best address the program's priorities as described in this Notice of Funds Availability (NOFA), then demonstrate financial need and maximize the benefits to be derived from the grant funds.

DATES: This notice is effective March 14, 2003.

FOR FURTHER INFORMATION CONTACT: Brian A. Cowan, Director, Grants Program Office, USFA, DHS, 500 C Street, SW., Room 330, Washington, DC 20472.

SUPPLEMENTARY INFORMATION:

Authority: Federal Fire Prevention and Control Act of 1974, 15 U.S.C. 2201 et seq., and the Consolidated Appropriations Resolution, 2003, Pub. L. 108-7.

Appropriations

For fiscal year 2003, Congress appropriated $750,000,000 to carry out the activities of the Assistance to Firefighters Grant Program (AFGP). From this amount $4,875,000 was rescinded leaving $745,125,000 to carry out the AFGP. We are also authorized to spend up to $37,500,000 for administration of the AFGP (five percent of the appropriated amount). In addition, we may set aside as much as $27,500,000 of the funds available under the Assistance to Firefighter Grant Program in order for us to make grants to, or enter into contracts or cooperative agreements with, national, State, local or community organizations or agencies, including fire departments, for the purpose of carrying out fire prevention and injury prevention programs. This leaves approximately $680,000,000 for competitive grants to fire departments. We have until September 30, 2004, to obligate the appropriated funds.

Background

The purpose of the AFGP is to award grants directly to fire departments of a State to enhance their ability to protect the health and safety of the public, as well as that of firefighting personnel, with respect to fire and fire related hazards. We will award the grants on a competitive basis to the applicants that first address the AFGP's priorities then demonstrate financial need and adequately demonstrate the benefit to be derived from their projects.

For the purpose of the AFGP, “State” is defined as the fifty States, the District of Columbia, Puerto Rico, the U.S. Virgin Islands, Guam, American Samoa, and the Commonwealth of the Northern Mariana Islands. We will provide the chief executives of the States with information concerning the total number and dollar amount of awards made to fire departments in their States.

Applicants may apply for any number of activities within one grant proposal that address all of their needs within a programmatic or functional area. The programs, and associated activities are as follows:

(a) Fire Operations and Firefighter Safety Program. Eligible activities under this function are Training, Wellness and Fitness, Firefighting Equipment, Personal Protective Equipment, and Modification to Fire Stations and Facilities.

(b) Fire Prevention Program. Eligible activities under this function include, but are not limited to Public Education and Awareness, Enforcing Fire Codes, Inspector Certification, Purchase and Install Smoke Alarms, and Arson Prevention and Detection.

(c) Emergency Medical Services Program. Eligible activities under this function are Equipment Acquisition, Training, and Wellness and Fitness Activities. Vehicles are not eligible in this programmatic area.

(d) Firefighting Vehicle Acquisition Program. Eligible apparatus under this program include, but are not limited to, pumpers, brush trucks, tankers, rescue, ambulances, quints, aerials, foam units, and fireboats.

Applicants seeking funding from this grant program in fiscal year 2003 may apply for assistance in only one of the four programmatic areas listed above. Within the selected programmatic area, applicants may develop a comprehensive program and include in their application as many of the eligible activities as necessary to address their needs. For example, if a fire department determines that it has needs in the area of fire operations, that fire department could apply for any one of the activities, or any combination of activities, or all of the activities listed within that program. If a department wants a vehicle, it would apply under the vehicle program.

We anticipate 20,000 to 25,000 fire departments will apply for assistance. Of these, we anticipate awarding approximately 7,000 grants. However, due to the length of time that it will take us to make these awards, we anticipate that approximately half of these awards will be made before September 30, 2003. We anticipate the balance of the awards will be made before June 30, 2004.

The law requires a certain distribution of grant funds between career departments and combination/volunteer fire departments. Specifically, we must ensure that fire departments that have either all-volunteer forces of firefighting personnel or combined forces of volunteer and career firefighting personnel receive a portion of the total grant funding that is not less than the proportion of the United States population that those departments protect. According to a 2001 survey by the National Fire Protection Association (NFPA), volunteer and combination departments protect 56 percent of the population of the United States and career departments protect 44 percent of the population. Therefore, we will ensure that no less than 56 percent of the funding available for grants will be awarded to volunteer and combination departments.

In order to fulfill our obligations under the law, we will make funding decisions using rank order after the panel evaluation as the preliminary basis. We may deviate from rank order and make funding decisions based on the type of department (career, combination, or volunteer), size and character of the community the applicant serves (urban, suburban, or rural), and/or the geographic location of the fire department. In these instances where we are making decisions based on geographic location, we will use States as the basic geographic unit. Geographic location of an applicant may be used primarily as a final discriminator, i.e., in cases where applicants have similar qualifications, we may use the geographic location of the applicants to maximize the diversity of the awardees.

Fire Prevention and Safety Grants

In addition to the grants available to fire departments in fiscal year 2003 through the competitive grant program, we will set aside as much as $27,500,000 of the funds available under the Assistance to Firefighter Grant Program in order for us to make grants to, or enter into contracts or cooperative agreements with, national, State, local or community organizations or agencies, including fire departments, for the purpose of carrying out fire prevention and injury prevention programs.

In accordance with statutory requirement to fund fire prevention activities, our support to Fire Prevention and Safety Grant activities will concentrate on organizations that focus on the prevention of injuries to children from fire. In addition to this priority, we are also placing an emphasis on funding innovative projects that focus on protecting the USFA-identified high-risk populations, i.e., children under fourteen, seniors over sixty-five, and firefighters. Since the victims of burns experience both short- and long-term physical and psychological effects, we are also placing a priority on programs that focus on reducing the immediate and long-range effects of fire and burn injuries, and primarily those affecting children.

A separate Notice of Funds Availability will be issued to announce the pertinent details of the Fire Prevention and Safety Grant portion of this program.

Applicant Eligibility

Eligible applicants for the Assistance to Firefighters Grant Program are limited to fire departments of a State. Under the existing interim final rule, a “fire department of a State” is defined as an agency or organization that has a formally recognized arrangement with a State, local or tribal authority (city, county, parish, fire district, township, town or other governing body) to provide fire suppression services to a population within a fixed geographical area. For the purpose of this program, “State” is defined as the fifty States, the District of Columbia, Puerto Rico, the U.S. Virgin Islands, Guam, American Samoa, and the Commonwealth of the Northern Mariana Islands.

A fire department can apply for assistance for its emergency medical services unit provided the unit falls organizationally under the auspices of the fire department. Airport fire departments and port authority fire departments are eligible, but only if they have a formally recognized arrangement with the local jurisdiction to provide fire suppression services, on a first-due basis, outside the confines of the airport or port facilities. Airport fire departments and port authority fire departments whose sole responsibility is suppression of fires on the airport grounds or port are not eligible for this grant program.

Fire departments that are Federal, or contracted by the Federal government, and which are solely responsible under their formally recognized arrangement for suppression of fires on Federal installations, are not eligible for this grant program. Fire departments or fire stations that are not independent but are part of, or controlled by a larger fire department or agency are typically not eligible to apply on their own, but may be included in the larger agency's application. Fire departments that are for-profit departments (i.e., do not have specific non-profit status or are not municipally based) are not eligible to apply for assistance under this program. Also not eligible for this program are non-fire based EMS companies, ambulance services, rescue squads, auxiliaries, dive teams, urban search and rescue teams, fire service organizations or associations, and State/local agencies such as a forest service, fire marshal, hospitals, and training offices.

Application Process

Eligible applicants will be able to access the application on USFA's e-grant system. This system is accessible from the USFA Internet homepages. The application will only be available during the application period. Although we do not encourage the use of paper applications, paper applications will be available for applicants that do not have access to the Internet. If an applicant does not have access over the Internet to the USFA Web site, the applicant may contact us directly to request a copy via mail. Although we do not recommend it due to inherent delays and relatively short application period, those fire departments interested in receiving an application in the mail must call our toll-free hotline at 866-274-0960.

Applicants applying via paper application rather than the automated e-grant system should complete and submit their applications to us at Grant Program Technical Assistance Center, 16825 South Seton Avenue, Emmitsburg, Maryland, 21727-8998. Faxed applications will not be considered. We will not be responsible for applications sent to any other address.

The application period for the 2003 Assistance to Firefighters Grant Program is Monday, March 10, 2003, to Friday, April 11, 2003. Complete application packages must be submitted electronically or otherwise received by us on or before the close of business (5 p.m. EST) on Friday, April 11, 2003. Applications submitted by mail must be post-marked by April 8, 2003, or received by us on or before close of business (5 p.m. EST) on April 11, 2003. We will not accept late, faxed, or emailed applications.

The automated grant application system has features built into it that will guarantee that the application is complete when submitted. We will not accept incomplete applications submitted by mail. We will not be responsible for any application that is not mailed to the address specified above.

We will evaluate each application in the preliminary screening process to determine which applications best address the program's established priorities. This preliminary screening is based on the applicants' answers to the activity-specific questions. Each activity within an application will be scored and applications that have multiple activities will have the scores prorated based on the amount of funding requested for each activity.

The best applications as determined in this preliminary step will be deemed to be in the “competitive range.” All applications in the competitive range will be subject to a second level review by a technical evaluation panel. The panelists will assess the application's merits with respect to the clarity and detail provided in the narrative about the project, the applicant's financial need, and the project's purported benefit to be derived from the cost.

Using the evaluation criteria included herein, the panelists will independently score each application before them and then discuss the merits/shortcomings of the application in an effort to reconcile any major discrepancies. A consensus on the score is not required. The assigned score will reflect the degree to which the applicant: clearly relates their proposed project; demonstrates financial need; and, details a high benefit to cost value of the proposed activities. The highest scoring applications resulting from this second level of review will then be considered for award.

In order to be successful in the panel evaluation, the narrative should include a detailed description of the planned activities, uses for the grant funds including details of each budget line item. For example, if personnel costs are included in the budget, please provide a break down of what those costs are for. The narrative should also explain why the grant funds are needed and why the department has not been able to obtain funding for the planned activities on its own. A discussion of financial need should include an explanation of any Federal funding received for similar activities. Finally, the applicant's narrative should detail the benefits the department or community will realize as a result of the grant award. In addition to describing the cost effectiveness of the grant request, an applicant can demonstrate cost benefit by describing, as applicable, how the grant award will (1) Fit in with a regional approach, i.e., is consistent with current capabilities and requests of neighboring fire departments or otherwise benefits other fire departments in the region, (2) promote interoperability of equipment/technology with other fire departments and local, state and Federal first responders, and (3) allow the fire department to respond to all hazards. In addition to fire prevention/suppression, all hazards includes incidents involving seismic (earthquake), atmospheric (tornados, hurricanes), technological (hazardous materials, nuclear, etc.), and terrorism.

In addition to the project narrative, the applicant must provide an itemized budget detailing the use of the grant funds. If an applicant is seeking funds in more than one eligible activity within a program, separate budgets will have to be generated for each activity and then an overall or summary budget would have to be generated. For those applicants applying on line, the summary budget will be automatically generated by the e-grant system.

Applicants that need assistance in formulating the justification or narrative statement required by this program may contact us for technical assistance. We will also be conducting grant workshops in each State. We will place the information regarding the workshops on the USFA Web site. Our Technical Assistance Center's toll free number is 866-274-0960, our email address is USFAGRANTS@fema.gov, and our Web site addresses are www.fema.gov and www.usfa.fema.gov, respectively.

Eligible Activities

Specific activities that are eligible for consideration for each program area are provided below under the descriptions of this year's eligible programs. Each department may only submit one application per application period. Applicants may only apply for one program area per application but they may seek funding in as many activities within the program area as they need. The specific activities eligible for each program area are delineated below. Applicants that submit multiple applications within one application period or more than one program will have each of their applications deemed ineligible. Applications submitted under this NOFA does not preclude applications submitted under subsequent NOFAs, though multiple awards in one Federal fiscal year may be limited.

Fire Operations and Firefighter Safety Program.

Appropriate activities under this program area include: Training, Wellness and Fitness, Firefighting Equipment, Personal Protective Equipment, and Modifications to Fire Stations and Facilities. You can apply for as many eligible activities under this function as necessary to meet your operational needs. There are no bonuses or penalties for applying for only one activity or for multiple activities. The purchase of any equipment (communications systems and equipment or personal protective equipment or firefighting equipment) under this program should have the intent and/or goal of solving your interoperability problems, as applicable. Any applicant seeking funding for equipment herein should provide details in the narrative section of their application regarding their local plan to enable interoperability for their jurisdiction.

(a) Training activities: USFA may make grants for the purpose of training firefighting personnel. Examples of training activities include, but are not limited to firefighting I and II, driver/operator, fire officer, hazardous materials response, incident command, supervision and safety, arson prevention and detection, handling of hazardous materials, or training firefighting personnel to provide training in any of these areas.

Eligible uses of training funds include but are not limited to purchase of training curricula, training equipment (including trailers), training props, training services, attendance at formal training forums, etc. Tow vehicles or other means of transport may be eligible as a transportation expense under this activity if adequately justified in your grant proposal, but we will limit transportation expenses to $6,000 per year. Compensation to volunteer firefighters for wages lost as a result of attending training under this program is an eligible expense if justified in your grant proposal. Overtime expenses paid to career firefighters to attend training, or overtime expenses paid to firefighters to cover for their colleagues while their colleagues are in training, is an eligible expense if justified in your grant proposal. Even though compensation is an eligible expense, proposals that contain such compensation expenses may be less favorable than similar proposals without compensation expenses due to the benefit/cost element in the evaluation process.

Activities that are not eligible in this area include construction of facilities such as classrooms, buildings, towers, etc. Renovations to an existing facility necessary to accomplish training activities are allowable if the renovations are minor and comply with the definition in the final rule and published in the Federal Register (i.e., limited to minor interior alterations costing less than $10,000).

(b) Wellness and fitness activities: USFA may make grants for the purpose of establishing or expanding wellness and fitness initiatives for firefighting personnel. Applicants will not be eligible for funding under the wellness and fitness activity unless they currently provide entry level physical examinations, immunization programs, and periodic health screenings, or intend to use grant funds to provide these three benefits to all their active firefighting personnel including EMS staff.

Eligible expenses in a wellness and fitness activity for firefighting personnel may include the procurement of medical services to ensure that the firefighting personnel are physically able to carry out their duties (purchase of medical equipment is not eligible under this category). Expenses to carry out wellness and fitness activities may include costs such as personnel (i.e., health-care consultants, trainers, and nutritionists), physicals, equipment (including shipping), supplies, and other related contract services that are directly associated with the implementation of the proposed activity are eligible.

Transportation expenses and fitness club memberships for the firefighters or their families are not eligible under the wellness and fitness activity. Other expenses that are not eligible in this area include construction of facilities to house a fitness program such as exercise or fitness rooms, showers, etc. Renovations to an existing facility necessary to accomplish wellness and fitness activities are allowable if the renovations are minor and comply with the definition in the final rule and published in the Federal Register (i.e., limited to minor interior alterations costing less than $10,000).

(c) Firefighting equipment acquisition: USFA may make grants for the purpose of acquiring additional firefighting equipment, including equipment needed directly for fire suppression or to enhance the safety or effectiveness of firefighting or rescue activities.

Eligible expenses include those expenses necessary to acquire additional firefighting equipment, including equipment for individual communications and monitoring equipment. Compressor systems, cascade systems, or similar SCBA refill systems are eligible expenditures in this area. Small boats (under 13 feet in length), jet-skis, and all-terrain vehicles (ATVs) may be considered firefighting or rescue equipment if properly justified in the narrative section of the application.

Renovations to an existing facility necessary to accommodate new firefighting equipment are allowable if the renovations are minor and comply with the definition in the final rule and published in the Federal Register (i.e., limited to minor interior alterations costing less than $10,000).

Thermal imaging cameras are eligible, but the number of cameras that can be applied for and/or purchased with grant funds will be limited based on the population served by the department applying for assistance. Departments that serve communities of less than 20,000 can purchase one thermal imaging camera with grant funds if awarded a grant; departments serving communities between 20,000 and 50,000 can purchase two cameras with grant funds if awarded a grant; and departments serving communities of over 50,000 can purchase three cameras with grant funds if awarded a grant.

Activities that are not eligible in this area include construction of facilities such as buildings, towers, etc. Vehicles, as defined in the final rule and published in the Federal Register, are not eligible under this activity. Signage and outdoor warning sirens or systems are also not eligible. Personal protective equipment, including clothing for structural and/or wildland fire suppression such as “Turnout Gear” or “Bunker Gear” (including boots, pants, coats, gloves, hoods, goggles, vests, helmets, coveralls, and fire shelters), self-contained breathing apparatus, spare cylinders, and personal alert safety systems, is not eligible under this activity, but is eligible under the Personal Protective Equipment Acquisition activity.

Integrated communications systems (or parts thereof), such as computer-aided dispatch, base stations, repeaters, etc., are eligible under this activity. Portable radios and/or mobile communications equipment (including mobile repeaters) are also eligible. Personal accountability systems are eligible as well. The cost of shipping equipment purchased under this program is also an eligible expense.

The purchase of any equipment under this program must have the intent and/or goal of satisfying local problems with interoperable systems. Any applicant seeking funding for communications systems and/or equipment must provide details regarding their local plan to enable interoperability for their jurisdiction in the narrative section of their application.

(d) Personal protective equipment acquisition: USFA may make grants for the purpose of acquiring personal protective equipment required for active firefighting personnel by the Occupational Safety and Health Administration, and other personal protective equipment for firefighting personnel.

Eligible personal protective equipment includes clothing for structural and wildland fire suppression such as “Turnout Gear” or “Bunker Gear” (including boots, pants, coats, gloves, hoods, goggles, vests, helmets, coveralls, and fire shelters), self-contained breathing apparatus, spare cylinders, and personal alert safety systems. Protective clothing for response to hazardous materials incidents and other specialized incidents are also eligible under this activity.

The purchase of three-quarter length rubber boots is an ineligible expenditure under this activity since it precludes the effective use of the eligible PPE cited above. Uniforms (formal/parade or station/duty) or uniform items (hats, badges, etc.) are also not eligible expenditures under this activity. Personal communications equipment such as radios and pagers are not eligible under this activity, but eligible under firefighting equipment acquisition activity.

The purchase of any equipment under this program must have the intent and/or goal of satisfying local problems with interoperable systems. Any applicant seeking funding for communications systems and/or equipment must provide details regarding their local plan to enable interoperability for their jurisdiction in the narrative section of their application.

(e) Modifications to fire stations and facilities activities: Eligible measures under this activity are limited but focused on promoting fire and life safety in fire stations and facilities. We believe that each of the eligible measures, if incorporated, would make any facility safer for firefighters. Measures that are eligible for funding are the installation of sprinkler systems, installation of vehicle exhaust extraction systems, the installation of smoke and/or fire alarm notification systems, and minor renovations to facilities that are necessary in order to accomplish other activities under this grant. The grant funds are to be used to retrofit existing structures that do not have the eligible safety features or to upgrade facilities whose features are dated. The funds are not to be used to supplement new construction.

There are no monetary limits on the individual initiatives under this activity such as vehicle exhaust systems, sprinkler systems or smoke/fire alarm systems, but no applicant can request more than $100,000 in the modifications per fire station under their jurisdiction.

Fire Prevention Program.

USFA may make grants for the purpose of establishing or enhancing a fire prevention program. Appropriate activities in this program include, but are not limited to the following: public education, public awareness, enforcing fire codes, inspector certification, purchase and installation of smoke alarms and fire suppression systems, and arson prevention and detection activities. Applicants can apply for as many related activities under this function as necessary.

Eligible expenses to carry out these activities would include costs such as a fire education/safety trailer, personnel, transportation, equipment (including appropriate personal protective equipment), supplies, and contracted services which are directly associated with the implementation of the proposed activity. Tow vehicles or other means of transport may be eligible as a transportation expense if adequately justified in the proposal, but transportation expenses will be limited to $6,000 per year.

Construction is not eligible under this program. A safety village that is not transportable would be considered construction, and therefore, not eligible. Firearms are also not eligible.

Emergency Medical Services Program.

USFA may make grants for the purpose of establishing or enhancing a fire department's emergency medical services program. Applicants can apply the training activity, the equipment acquisition activity, or the wellness and fitness activity or all of these activities under this program area.

Eligible expenses for the training activities under this program could include instructional costs (i.e., books, materials, equipment, supplies, and exam fees), certification/re-certification expenses, and continuing education programs. Eligible expenses for equipment acquisition in this program could include defibrillators, basic and advanced life support equipment, universal precaution supplies (i.e., medical PPE) mobile and portable communication equipment, computers, expendable supplies (but not medications), and infectious disease control and decontamination systems.

Integrated communications systems (or parts thereof), such as computer-aided dispatch, base stations, repeaters, etc., are eligible under this activity. Portable radios and/or mobile communications equipment (including mobile repeaters) are also eligible. The purchase of any equipment under this program must have the intent and/or goal of satisfying local problems with interoperable systems. Any applicant seeking funding for equipment must provide details regarding their local plan to enable interoperability for their jurisdiction in the narrative section of their application.

Wellness and fitness activities under the EMS program: USFA may make grants for the purpose of establishing or expanding wellness and fitness initiatives for firefighting and EMS personnel of a fire department. An applicant will not be eligible for funding under this wellness and fitness activity unless the applicant currently provides entry-level physical examinations, immunization programs, and periodic health screenings, or intends to use grant funds to provide these benefits to all firefighting personnel including active EMS staff.

Eligible expenses in a wellness and fitness activity for EMS personnel may include the procurement of medical services to ensure that the EMS personnel are physically able to carry out their duties (purchase of medical equipment is not eligible under this category). Expenses to carry out wellness and fitness activities may include costs such as personnel (i.e., health-care consultants, trainers, and nutritionists), physicals, equipment (including shipping), supplies, and other related contract services that are directly associated with the implementation of the proposed activity are eligible.

Not eligible in this program are medications and vehicles, such as ambulances. Vehicles must be applied for under the Vehicle Acquisition Program detailed below. Transportation expenses and fitness club memberships for the EMS personnel or their families are not eligible under the wellness and fitness activity. Other expenses that are not eligible in this area include construction of communication towers or facilities to house a fitness program such as exercise or fitness rooms, showers, etc. Renovations to an existing facility necessary to accomplish wellness and fitness activities are allowable if the renovations are minor and comply with the definition in the final rule and published in the Federal Register (i.e., limited to minor interior alterations costing less than $10,000).

Firefighting Vehicle Acquisition Program

USFA may make grants for the purpose of acquiring new firefighting vehicles, used fire apparatus, or refurbished apparatus. The funds may also be used to refurbish a vehicle that the department currently owns. Applicants may apply for only one vehicle per year under this program. A listing of the eligible vehicles and their relative priority is contained in the Evaluation Criteria section below.

Eligible expenses under this program would include the cost of the vehicle and associated equipment necessary to conform to applicable national standards. New, used or refurbished vehicles are eligible, however any used or refurbished vehicles must conform to national standards that were in effect the year the vehicle was manufactured. Custom vehicles are eligible, but due to benefit/cost considerations during review, they may not be as favorably evaluated as a lower costing standard model commercial vehicle. An allowance for transportation to inspect a vehicle under consideration or during a vehicle's production would be eligible if justified and included in the grant proposal. Also eligible would be the additional costs associated with the purchase and installation of a vehicle-mounted exhaust filtration system for any vehicle purchased with grant funds.

Applicants will not be allowed to modify the scope of work of a vehicle award, i.e. change the type of vehicle requested. Aircraft, bulldozers, and construction-related equipment are not eligible.

Other Eligible Costs

Administrative Costs. Administrative costs are allowable under any of the program areas listed above, in accordance with OMB Circular A-87 or OMB Circular A-122, as applicable. Applicants may apply for administrative costs if the costs are directly related to the implementation of the program for which they are applying. Applicants must list their costs under the “other” category in their budget and explain what the costs are for in their project narrative. Examples of eligible administrative costs would be shipping, computers, office supplies, etc. We will assess the reasonableness of the administrative costs requested in each application and determine if it is in the best interest of the program to fund all or a portion of the requested expenses.

Indirect Costs. Applicants that have an approved indirect cost rate may charge indirect costs to the grant if they submit the documentation that supports the rate to us. Indirect cost rates must be formally established and approved by the applicant's cognizant Federal agency. We will allow the rate to be applied as long as it is consistent with its established terms. For example, some indirect cost rates may not apply to capital procurements; in this case, indirect cost rates would not apply for a grant to purchase equipment or a vehicle.

Audit Costs. Some applicants with large awards may be required to undergo an audit in accordance with OMB Circular A-133, specifically, recipients of Federal funding that spends in excess of $300,000 of those funds in a year. The costs incurred for such an audit would be an expenditure that is eligible for reimbursement if included in the budget proposal.

Grant Writer Fees. Fees for grant writers may be included as a pre-award expenditure (as provided in section 152.7(b)), but fees payable on a contingency basis are not an eligible expense that can be charged to the grant. For grant writers' fees to be eligible as a pre-award expenditure, the fees must have been paid prior to award. Applicants may be required to provide documentation to support these pre-award expenditures.

Reasonableness of Costs. The panelists will review the applications that make it into the competitive range and judge each application on its own merits. The panelists will consider all expenses budgeted, including administrative and indirect, as part of the cost-benefit determination and may recommend appropriate adjustments. Regardless of eligibility of any costs requested, we reserve the right to reduce any requests for assistance, in whole or in part, that we deem to be excessive or otherwise contrary to the best interests of this program.

Pre-award Costs. Generally, fire departments cannot use grant funds to pay for products and services contracted for, or purchased prior to the effective date of the grant. However, we will consider requests for reimbursement for these on an exception basis. Expenses incurred after the application deadline but prior to award may be eligible for reimbursement if the expenses were justified, unavoidable (i.e., urgent and compelling), consistent with the scope of work, and specifically approved by the Assistance Officer. Expenses, obligations, commitments or contracts incurred or entered into prior to the application deadline are not eligible to be included as an expense.

Evaluation Criteria

Specific rating criteria for each of the eligible programs and activities follow below. These rating criteria will provide an understanding of the grant program's priorities and the expected cost effectiveness of any proposed projects.

(1) Fire Operations and Firefighter Safety Program.

(i) Training Activities. We believe that more benefit is derived from the direct delivery of training than from the purchase of training materials, equipment or props. Therefore, applications focused on direct delivery of training will receive a higher competitive rating. We will also accord higher rating to programs achieving benefits from statutorily required training over non-mandatory or strictly voluntary training. We will rate more highly those programs that benefit the highest percentage of targeted personnel within a fire department. Training designated for Rapid Intervention Teams will have a slightly higher competitive advantage. It should be noted that on average the sending of trainees away for training will be less cost effective than delivery of the same training on-site.

Due to the inherent differences between urban, suburban, and rural firefighting characteristics, we have developed different priorities in the training activity for departments that service these different types of communities. For departments serving rural communities, we believe that funding of basic, operational-level firefighting, rescue, and responder training (i.e., training in basic firefighting duties or operating fire apparatus) has greater benefit than funding of officer training, safety officer training, or operations training. Likewise, we feel there is a greater cost-benefit to officer training than for other specialized training such as mass casualty, HAZMAT, WMD awareness, advance rescue, or inspector training. Conversely, for departments that are servicing communities that are suburban or urban, we believe there is a higher benefit to be gained by funding specialized training such as mass casualty, HAZMAT, advance rescue, or inspector training than the funding of officer training, safety officer training, or operations training, which in turn has a higher benefit than basic, operational, or awareness level activities.

(ii) Wellness and Fitness Activities. We believe that in order to have an effective wellness/fitness program, fire departments must offer an entry physical examination, an immunization program, and periodic health screenings. Accordingly, applicants seeking funding in this category must currently offer all three benefits, or must propose to initiate any of these benefits not currently offered with these grant funds in order to receive additional consideration for funding this activity. We believe the greatest benefit will be realized by supporting new wellness and fitness programs, and therefore, we will accord higher competitive ratings to those applicants lacking wellness/fitness programs over those applicants that already possess a wellness/fitness program. We believe that programs with annual physicals and general health screening provide high benefits and programs including employee assistance-type offerings, incident rehabilitation, formal fitness regiments, and/or injury prevention components offer significant benefits. Injury rehabilitation is eligible but provide a low cost benefit. Finally, since participation is critical to achieving any benefits from a wellness or fitness program, we will give higher competitive rating to departments whose wellness and fitness programs mandate participation as well as programs that provide incentives for participation.

(iii) Firefighting Equipment Acquisition. The stated purpose of this grant program is to protect the health and safety of the public and firefighters from fire and fire related hazards. As such, we believe that this grant program will achieve the greatest benefits if we provide funds to fire departments purchasing basic firefighting equipment before any other type of equipment. We will afford departments buying basic firefighting equipment for the first time (equipment never owned before) a higher competitive rating than departments buying replacement equipment or equipment that will be used to expand the department's capabilities into new mission areas. We believe there is more benefit realized to bring a department up to the applicable minimum standard (i.e., as required by statute, regulation, or professional firefighting guidance), rather than to the department that is replacing equipment or enhancing capabilities. Equipment designated for Rapid Intervention Teams will have a slightly higher competitive advantage.

(iv) Personal Protective Equipment Acquisition. A stated purpose of this grant program is to protect the health and safety of firefighters from fire, fire related hazards and other hazardous conditions. The goal is to provide active firefighters with a complete set of equipment, breathing apparatus as well as turnout gear. As such, this grant program will achieve the greatest benefits if we provide funds to fire departments purchasing basic protective equipment for firefighting before other types of protective equipment. In order to achieve the goal and maximize the benefit to the firefighting community, we believe that we must fund those applicants needing to provide personal protective equipment (PPE) to a high percentage of their personnel. Accordingly, we will give a high competitive rating in this category to fire departments in which a large percentage of their active firefighting staff do not have any personal protective equipment and to departments that wish to purchase enough PPE to equip 100 percent of their active firefighting staff. We will also give a higher competitive rating to departments that are purchasing the equipment for the first time as opposed to departments replacing obsolete or substandard equipment (e.g., equipment that does not meet current NFPA and OSHA standards), or purchasing equipment for a new mission. Departments that are replacing used gear that is very old, will be afforded a higher competitive rating than a department whose gear is relatively new. We will provide a higher competitive rating to departments requesting integrated PASS devices than to those departments that are requesting non-integrated PASS devices. We also believe it is more cost beneficial to fund departments that have a high volume of fire related responses per year before funding less active departments. With respect to call volume, departments will be compared to departments with similar characteristics, i.e., urban compared to urban, suburban compared to suburban, and rural compared to rural. Equipment designated for Rapid Intervention Teams will have a slightly higher competitive advantage.

(v) Modifications to Fire Stations and Facilities. The stated purposes of this grant program is to protect the health and safety of firefighters, as such, eligible projects under this activity that are designed to directly protect the health and safety of firefighters. We believe that more benefit would be derived from modifying fire stations than would be realized by modifying fire-training facilities or other fire-related facilities. Facilities that would be open for broad usage and have a high occupancy capacity would receive a higher competitive rating than facilities that have limited use and/or low occupancy capacity. The frequency of use would also have a bearing on the benefits to be derived from grant funds. The frequency and duration of a facility's occupancy have a direct relationship to the benefits to be realized from funding in this activity. As such, facilities that are occupied or otherwise in use 24-hours-per-day/seven-days-a-week would receive a higher competitive rating than facilities used on a part-time or irregular basis.

(2) Fire Prevention Program. We believe that the public as a whole will receive the greatest benefit by creating new fire prevention programs. Therefore, our priority is to target these funds to fire departments that do not have an existing fire prevention program as opposed to those departments that already have such a program. Also, we believe the public will benefit greatly from establishing fire prevention programs that will continue beyond the grant year as opposed to limited efforts. Therefore, we will give a higher competitive rating to programs that will be self-sustaining after the grant period.

Because of the benefits to be attained, we will give a higher competitive rating to programs that target one or more of USFA's identified high-risk populations (i.e., children under fourteen years of age, seniors over sixty-five and firefighters), and programs whose impact is/will be periodically evaluated. We believe that the purchase or development and/or implementation of public education programs provides the highest benefits to a community therefore, applications that propose this type of project will receive the highest competitive rating. Programs that develop and enforce fire codes and standards, and arson prevention and detection programs typically provide long-term effect on fire prevention, therefore, they will receive a high competitive rating. We also believe programs that purchase and install residential and public detection and suppression systems provide significant benefits.

Programs that are limited to the purchase of public information materials and presentation aids and equipment achieve the least benefit; therefore, these types of activities will receive a lower competitive rating.

(3) Emergency Medical Services Program. Our overall objective in this program is to help fire departments start or expand EMS service delivery by providing training and equipment necessary to achieve their desired level of capacity. Because of the inherent benefits, the primary goal of this program is to train and equip all firefighters to the basic EMS certification level (i.e., first responder and EMT) and work toward an EMT-B level of capacity before assisting departments with established EMS programs in upgrading existing services.

In this program area, we will give the highest competitive rating to fire departments that are planning on acquiring a basic life-support level of service over upgraded or expanded services. We believe that enhancing or expanding an existing service that currently meets basic life-support to an intermediate life-support system would a higher benefit than enhancing existing services to the paramedic level.

Higher priority will be given to departments with a high call volume relative to departments of similar characteristic (i.e., urban, suburban, or rural). Also, departments that strive to comply with a State, Federal, or national standard will be afforded a slightly higher competitive standing.

(1) Firefighting Vehicle Program. In recognition of the inherent differences between urban, suburban, and rural firefighting conventions, we have developed different priorities in the vehicle acquisition program for departments that service these different types of communities. The following chart delineates our priorities in this program area for each type of community. Due to the competitive nature of this program and the imposed limits of funding available for this program, it is unlikely that we would fund many vehicles that are not listed as a priority-one or a priority-two this year.

Vehicle Acquisition Program Priorities
| Urban | Suburban | Rural
Priority One | Pumper Quint Rescue-pumper Aerial Rescue | Pumper Quint Rescue-pumper | Pumper. Tanker. Brush. Rescue-pumper. Pumper-tanker.
Priority Two | HAZMAT Light/Air Rehab | Brush Rescue Aerial HAZMAT | Rescue. Light/Air. Quint.
Priority Three | ARFF Foam Brush Command Fire Boat | Light/Air Tanker Pumper-tanker Rehab Command | HAZMAT. Rehab. Command.
Priority Four | Tanker Pumper-tanker Watercraft Ambulance | ARFF Foam Watercraft Fire Boat Ambulance | ARFF. Foam. Aerials. Watercraft. Fire Boat. Ambulance.

Regardless of the type of community served, we believe that more benefit will be realized by funding fire departments that own few or no firefighting apparatus than by providing funding to a department with numerous vehicles. Therefore, we will give a higher competitive rating in the apparatus category to fire departments that have few or no firefighting vehicles relative to other departments servicing similar types of communities. We consider vehicles that are on long-term loan or assignment to the applicant to be part of the applicant's fleet.

We will also give higher competitive rating to departments that have not recently purchased a new firefighting vehicle, and departments that wish to replace or relegate an old, high-mileage vehicle. We will also provide a higher competitive rating to departments seeking a vehicle that incur a significant number of responses relative to other departments servicing similar communities.

We believe that more benefit will accrue to a community that needs a new vehicle (i.e., the initial purchase of a new or used vehicle) as its first vehicle or to relegate a non-compliant vehicle to reserve status, i.e., relegate a vehicle that does not conform to applicable standards. Relegating a compliant vehicle has a lower priority than relegating a non-compliant vehicle. But replacing a compliant vehicle has more benefit than purchasing a vehicle to expand the operational capacity of a department into a new mission area.

While no competitive advantage has been assigned to the purchase of commercial vehicles versus custom vehicles, or used vehicles versus new vehicles in the preliminary evaluation of applications, it has been our experience that depending on the type and size of department, the technical evaluation panelists often prefer low-cost vehicles when evaluating the cost/benefit section of the project narratives. Panelists may be provided with guidance for use in their evaluation on the reasonableness of vehicle costs. We may also instill funding limits on requests for vehicles that we deem excessive or otherwise not in the best interest of the program.

Finally, we believe that it would be more beneficial to the nation's fire service if we gave these vehicle awards to as many fire departments as possible, therefore, we will allow each fire department to apply for only one vehicle per year.

Reporting Requirements

The grantees may be required to submit a progress report regarding the financial and performance status of their project after six months of performance and at the closure of the grant. The due dates will vary from grantee to grantee, based on the performance period as indicated in the Articles of Agreement. These performance reports should provide us with a comparison of actual accomplishments to the objectives approved in the grant scope of work. Any issues that may affect a timely close out of the award should be reported at this time.

The mid-term report is due within 30 days of the end of the first six-months. All grantees will be required to submit a final report within 90 days of completion of the grant performance period or the closure of the grant, whichever comes first.

Dated: March 7, 2003.
Michael D. Brown,
Acting Under Secretary, Emergency Preparedness and Response Directorate.

[FR Doc. 03-6172 Filed 3-13-03; 8:45 am]

BILLING CODE 6719-08-P